COMMISSION ON CIVIL RIGHTS

Sunshine Act Notice

AGENCY: United States Commission on Civil Rights.

ACTION: Notice of meeting.

DATE AND TIME: Friday, September 11, 2009; 9:30 a.m. EDT.

PLACE: 624 9th St., NW., Room 540, Washington, DC 20425.

Meeting Agenda

This meeting is open to the public.

I. Approval of Agenda

II. Approval of Minutes of August 7, 2009 Meeting

III. Announcements

IV. Staff Director's Report

V. Program Planning

• Discussion of 2010 Statutory Report Topic Ideas

• Discussion of Potential FY 2010 Clearinghouse Reports and Briefings

• Briefing Report on Title IX in Intercollegiate Athletics: Accommodating Interests and Abilities

• Update on Status of Document Request to Government Agencies Regarding their Civil Rights Enforcement Activities

• Update on Status of Briefing Reports

VI. State Advisory Committee Issues

• Iowa SAC

• Nevada SAC

VII. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: September 1, 2009.
David Blackwood,
General Counsel.

[FR Doc. E9-21446 Filed 9-1-09; 4:15 pm]

BILLING CODE 6335-01-P